DEPARTMENT OF ENERGY

10 CFR Part 430

[Docket No. EERE-2010-BT-STD-0005]

RIN 1904-AC15

Energy Conservation Program for Consumer Products: Energy Conservation Standards for Certain Small Diameter, Elliptical Reflector, and Bulged Reflector Incandescent Reflector Lamps

AGENCY: Office of Energy Efficiency and Renewable Energy, Department of Energy.

ACTION: Proposed rule; notice of extension of public comment period.

SUMMARY: On May 3, 2010 U.S. Department of Energy (DOE) published a document in the Federal Register initiating a rulemaking to evaluate energy conservation standards for certain small diameter, elliptical reflector (ER), and bulged reflector (BR) incandescent reflector lamps. In that document, DOE announced the availability of a framework document and the date of a public meeting. This document announces an extension of the public comment period for submitting comments on the framework document or any other aspect of the rulemaking for certain small diameter, ER, and BR incandescent reflector lamps. The comment period is extended to July 9, 2010.

DATES: DOE will accept comments, data, and information regarding the framework document received no later than July 9, 2010.

ADDRESSES: Any comments submitted must identify the framework document for energy conservation standards for certain small diameter, ER, and BR incandescent reflector lamps, and provide docket number EERE-2010-BT-STD-0005 and/or RIN number 1904-AC15. Comments may be submitted using any of the following methods:

• Federal eRulemaking Portal: http://www.regulations.gov. Follow the instructions for submitting comments.

• E-mail: IRL-2010-STD-0005@ee.doe.gov. Include docket number EERE-2010-BT-STD-0005 and/or RIN: 1904-AC15 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC, 20024, (202) 586-2945, between 9 a.m. and 4 p.m. Monday through Friday, except Federal holidays. Please call Ms. Brenda Edwards at the above telephone number for additional information regarding visiting the Resource Room.

FOR FURTHER INFORMATION CONTACT: Mr. Anthoney Perkins, U.S. Department of Energy, Office of Energy Efficiency and Renewable Energy, Building Technologies, EE-2J, 1000 Independence Avenue, SW., Washington, DC 20585-0121. Telephone: (202) 287-1846. E-mail: Anthoney.Perkins@hq.doe.gov.

Mr. Eric Stas, U.S. Department of Energy, Office of the General Counsel, GC-71, 1000 Independence Avenue, SW., Washington, DC 20585-0121. Telephone: (202) 586-9507. E-mail: Eric.Stas@hq.doe.gov.

SUPPLEMENTARY INFORMATION: On May 3, 2010, DOE published a document in the Federal Register announcing a public meeting and the availability of a framework document as a first step in the rulemaking process to consider energy conservation standards for certain ER, BR, and small diameter incandescent reflector lamps. 75 FR 23191. The document provided for the submission of written comments by June 17, 2010 and oral comments were also accepted at a public meeting held on May 26, 2010. Stakeholders have requested an extension of the comment period to allow additional time for the preparation of their comments. DOE has determined that a brief extension of the public comment period is appropriate to allow stakeholders additional time to submit comments to DOE for consideration as the proposed rule is developed. DOE will consider any comments received by July 9, 2010 and deems any comments received between publication of the Federal Register notice and July 9, 2010 to be timely submitted.

Further Information on Submitting Comments

Under 10 CFR 1004.11, any person submitting information that he or she believes to be confidential and exempt by law from public disclosure should submit two copies: one copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on June 11, 2010.
Cathy Zoi,
Assistant Secretary, Energy Efficiency and Renewable Energy.

[FR Doc. 2010-14755 Filed 6-17-10; 8:45 am]

BILLING CODE 6450-01-P